DEPARTMENT OF TRANSPORTATION

Federal Aviation Administration

14 CFR Part 39

[Docket No. FAA-2022-0151; Project Identifier MCAI-2021-00521-A]

RIN 2120-AA64

Airworthiness Directives; Costruzioni Aeronautiche Tecnam S.P.A. Airplanes

AGENCY: Federal Aviation Administration (FAA), DOT.

ACTION: Notice of proposed rulemaking (NPRM).

SUMMARY: The FAA proposes to adopt a new airworthiness directive (AD) for certain Costruzioni Aeronautiche Tecnam S.P.A. Model P2012 Traveller airplanes. This proposed AD results from mandatory continuing airworthiness information (MCAI) originated by an aviation authority of another country to identify and correct an unsafe condition on an aviation product. The MCAI describes the unsafe condition as free play in the trim tab actuator and trim tab surface. This proposed AD would require repetitively inspecting the trim tab trailing edge to determine if free play exists and taking corrective actions as needed. The FAA is proposing this AD to address the unsafe condition on these products.

DATES: The FAA must receive comments on this proposed AD by April 21, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact Costruzioni Aeronautiche Tecnam S.P.A., Airworthiness Office Via S. D'acquisto 62, Boscotrecase, 80042, Italy; phone: +39 0823 997538; email: traveller.support@Tecnam.com; website: https://www.Tecnam.com. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0151; or in person at Docket Operations between 9 a.m. and 5 p.m., Monday through Friday, except Federal holidays. The AD docket contains this NPRM, the MCAI, any comments received, and other information. The street address for Docket Operations is listed above.

FOR FURTHER INFORMATION CONTACT: Jim Rutherford, Aviation Safety Engineer, FAA, General Aviation & Rotorcraft Section, International Validation Branch, 901 Locust, Room 301, Kansas City, MO 64106; phone: (816) 329-4165; email: jim.rutherford@faa.gov.

SUPPLEMENTARY INFORMATION:

Comments Invited

The FAA invites you to send any written relevant data, views, or arguments about this proposal. Send your comments to an address listed under the ADDRESSES section. Include “Docket No. FAA-2022-0151; Project Identifier MCAI-2021-00521-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Jim Rutherford, Aviation Safety Engineer, FAA, General Aviation & Rotorcraft Section, International Validation Branch, 901 Locust, Room 301, Kansas City, MO 64106. Any commentary that the FAA receives which is not specifically designated as CBI will be placed in the public docket for this rulemaking.

Background

The European Union Aviation Safety Agency (EASA), which is the Technical Agent for the Member States of the European Union, has issued EASA AD 2021-0119, dated April 30, 2021 (referred to after this as “the MCAI”), to address the unsafe condition on certain serial-numbered Costruzioni Aeronautiche Tecnam S.P.A. Model P2012 Traveller airplanes. The MCAI states:

Occurrences have been reported of vibration in the horizontal stabiliser control yoke and pedals, both sides. The subsequent investigation identified free play in the trim tab actuator and trim tab surface.

This condition, if not detected and corrected, could lead to a significant free play on the trim tab connection, with consequent increase in dynamic loads and vibrations, possibly resulting in reduced control of the aeroplane.

To address this potential unsafe condition, TECNAM issued the [Service Bulletin] SB to provide inspection instructions.

For the reasons described above, this [EASA] AD requires repetitive inspections of the trim tab trailing edge and, depending on findings, accomplishment of applicable corrective action(s).

You may examine the MCAI in the AD docket at https://www.regulations.gov by searching for and locating Docket No. FAA-2022-0151.

Related Service Information Under 1 CFR Part 51

The FAA reviewed Tecnam Service Bulletin 398-CS-Edition 2, Rev. 1, dated August 17, 2020. The service information specifies procedures for inspecting the trim tab trailing edge to determine if free play exists and taking corrective actions as needed.

This service information is reasonably available because the interested parties have access to it through their normal course of business or by the means identified in the ADDRESSES section.

Other Related Service Information

The FAA also reviewed Tecnam Service Bulletin 398-CS-Edition 2, Rev. 0, dated August 5, 2020. The service information specifies procedures for inspecting the trim tab trailing edge to determine if free play exists and taking corrective actions as needed.

In addition, the FAA reviewed Tecnam Job Card No. 1249 Ed.1, Rev.1, dated May 5, 2021. The service information specifies procedures for servicing free play of the mechanical trim actuator.

FAA's Determination

This product has been approved by the aviation authority of another country, and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements

This AD requires accomplishing the actions specified in the service information already described.

Costs of Compliance

The FAA estimates that this AD, if adopted as proposed, would affect 21 products of U.S. registry.

The FAA estimates the following costs to comply with this proposed AD:

Estimated Costs
Action | Labor cost | Parts cost | Cost per product | Cost on U.S. operators
Trim tab surface free play inspection | 1 work-hour × $85 per hour = $85 | Not applicable | $85 per inspection cycle | $1,785 per inspection cycle.

The FAA estimates the following costs to do any necessary actions that would be required based on the results of the proposed inspection. The FAA has no way of determining the number of airplanes that might need these actions.

On-Condition Costs
Action | Labor cost | Parts cost | Cost per product
Trim actuator free play inspection | 2 work-hours × $85 per hour = $170 | Not applicable | $170
Trim actuator servicing | 2 work-hours × $85 per hour = $170 | $100 | 270
Trim actuator replacement | 1 work-hour × $85 per hour = $85 | 1,000 | 1,085

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Would not be a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Costruzioni Aeronautiche Tecnam S.P.A.: Docket No. FAA-2022-0151; Project Identifier MCAI-2021-00521-A.

(a) Comments Due Date

The FAA must receive comments on this airworthiness directive (AD) by April 21, 2022.

(b) Affected ADs

None.

(c) Applicability

This AD applies to Costruzioni Aeronautiche Tecnam S.P.A. Model P2012 Traveller airplanes, serial numbers 002 through 030 inclusive, certificated in any category.

(d) Subject

Joint Aircraft System Component (JASC) Code 2731: Elevator Tab Control System.

(e) Unsafe Condition

This AD was prompted by mandatory continuing airworthiness information (MCAI) originated by an aviation authority of another country to identify and correct an unsafe condition on an aviation product. The MCAI describes the unsafe condition as free play in the trim tab actuator and trim tab surface. The FAA is issuing this AD to detect and correct free play in the trim tab connection, which could lead to reduced airplane control.

(f) Compliance

Comply with this AD within the compliance times specified, unless already done.

(g) Trim Tab Surface Free Play Inspection and Maintenance

Within 100 hours time-in-service (TIS) after the effective date of this AD and thereafter at intervals not to exceed 100 hours TIS, measure the trim tab surface for free play in accordance with Appendix A, Accomplishment Instructions, section 2 (Step 1—Trim Tab surface free play measurement) on pages 3 and 4 of Tecnam Service Bulletin 398-CS-Edition 2, Rev. 1, dated August 17, 2020 (Tecnam SB 398-CS-Edition 2, Rev. 1). If there is free play that exceeds the allowable tolerance, before further flight, measure the trim tab actuator for free play and take any corrective actions in accordance with Appendix A, Accomplishment Instructions, section 3 (Step 2—Trim Actuator free play measurement) on page 5 of Tecnam SB 398-CS-Edition 2, Rev 1.

(h) Credit for Previous Actions

You may take credit for the initial inspection required by paragraph (g) of this AD if you performed that action before the effective date of this AD using Tecnam Service Bulletin 398-CS-Edition 2, Rev. 0, dated August 5, 2020.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD and email to: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, FAA, General Aviation & Rotorcraft Section, International Validation Branch, 901 Locust, Room 301, Kansas City, MO 64106; phone: (816) 329-4165; email: jim.rutherford@faa.gov.

(2) Refer to European Union Aviation Safety Agency (EASA) AD 2021-0119, dated April 30, 2021, for more information. You may examine the EASA AD in the AD docket at https://www.regulations.gov by searching for and locating Docket No. FAA-2022-0151.

(3) For service information identified in this AD, contact Costruzioni Aeronautiche Tecnam S.P.A., Airworthiness Office, Via S. D'acquisto 62, Boscotrecase, 80042, Italy; phone: +39 0823 997538; email: traveller.support@Tecnam.com; website: https://www.Tecnam.com. You may view this referenced service information at the FAA, Airworthiness Products Section, Operational Safety Branch, 901 Locust, Kansas City, MO 64106. For information on the availability of this material at the FAA, call (817) 222-5110.

Issued on February 25, 2022.
Lance T. Gant,
Director, Compliance & Airworthiness Division, Aircraft Certification Service.

[FR Doc. 2022-04638 Filed 3-4-22; 8:45 am]

BILLING CODE 4910-13-P